DEPARTMENT OF TRANSPORTATION

Pipeline and Hazardous Materials Safety Administration

Hazardous Materials: Notice of Actions on Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has received the application described herein.

DATES: Comments must be received on or before September 11, 2019.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington, DC, or at http://regulations.gov.

This notice of receipt of applications for special permit is published in accordance with part 107 of the Federal hazardous materials transportation law (49 U.S.C. 5117(b); 49 CFR 1.53(b)).

Issued in Washington, DC, on August 02, 2019.
Donald P. Burger,
Chief, General Approvals and Permits Branch.

Special Permits Data—Granted
Application number | Applicant | Regulation(s) affected | Nature of the special permits thereof
7657-M | WELKER, INC | 173.201, 173.202, 173.203, 173.301(f)(2), 173.302a(a)(1), 173.304(a), 177.840(a)(1) | To modify the special permit to add additional hazmat.
10370-M | WELKER, INC | 173.201, 173.202, 173.202, 173.203, 173.301(f)(2), 173.302a(a)(1), 173.304(a), 177.840(a)(1) | To modify the special permit to make editorial changes to bring it more in line with other special permits, (i.e., 9657, 11054).
12098-M | CARLETON TECHNOLOGIES, INC | 173.301(f), 173.302a(a)(1) | To modify the special permit to authorize a re-design of the cylinder due to a new welding procedure and to update the drawings on file with PHMSA.
14526-M | KIDDE TECHNOLOGIES INC | 173.302, 173.302a | To modify the special permit to add additional safety control measures.
15509-M | ORBITAL SCIENCES CORPORATION | 173.301, 173.302a | To modify the special permit to authorize the transportation in commerce of additional hazmat in non-DOT specification cylinders.
16095-M | CLAY AND BAILEY MANUFACTURING COMPANY | 172.203(a), 178.345-1, 180.413 | To modify the special permit to authorize a new design with a gasket in the cover vs. an O-ring in the base for sealing the manway.
16118-M | TOYOTA MOTOR SALES USA INC | 173.301(a)(1) | To modify the special permit to include language that the special permit acts as a competent authority.
20251-M | SALCO PRODUCTS INC | 172.203(a), 178.345-1, 180.413 | To modify the special permit to authorize a new manway cover design.
20788-N | TRINITY TANK CAR, INC | 172.203(a), 179.200-10(a), 179.220-10(a), 179.100-9(a), 179.400-11(c) | To authorize the manufacture, mark, sale, and use of DOT specification tank car tanks with nozzle flanges manufactured using methods not currently identified in the Association of American Railroads (AAR) Manual of Standards and Recommended Practices, Section C-Part III, Specifications for Tank Cars, Specification M-1002, except as specified herein, for the transportation in commerce of the hazardous materials authorized by this special permit.
20828-N | BATTERIES PLUS, LLC | 173.159(e)(1) | To authorize the transportation in commerce of batteries and lightbulbs containing mercury on the same transport vehicle without being subject to the requirements of the HMR.
20830-N | ARKEMA, INC | 173.302a(a)(1) | To authorize the transportation of boron trifluoride in non-DOT specification spherical pressure vessels.
20838-N | AIR LIQUIDE ELECTRONICS U.S. LP | 180.205(g) | To authorize filling and transportation in commerce of certain 4BW cylinders and certain DOT-SP 12531 cylinders which are dedicated to transport Dichlorosilane and have been periodically requalified using alternative methods.
20845-N | Lithos Energy Inc | 172.101(j), 173.185(a) | To authorize the transportation in commerce of low production lithium ion batteries exceeding 35 kg by cargo-only aircraft.
20850-N | INSITUFORM TECHNOLOGIES, LLC | 173.203, 173.242 | To authorize the transportation in commerce of non-DOT specification bulk packagings containing resin solutions.
20853-N | SOLIDENERGY SYSTEMS CORP | 173.185(a) | To authorize the transportation in commerce of prototype and low production lithium ion and lithium metal cells that are not individually packaged in inner packagings.
20856-N | SAMSUNG SDI AMERICA, INC | 172.101(j) | To authorize the transportation of lithium ion batteries exceeding 35 kg net weight via cargo-only aircraft.
20861-N | AYALYTICAL INSTRUMENTS INC | 173.120(c) | To authorize the use of an alternate method for determining flash point for Class 3 materials.
20865-N | PORSCHE LOGISTIK GMBH | 172.101(j) | To authorize the transportation in commerce of lithium batteries exceeding 35 kg aboard cargo-only aircraft.
20866-N | ARGON ST INC | 172.101(j) | To authorize the transportation in commerce of lithium ion batteries contained in equipment with a net weight in excess of 35 kg by cargo-only aircraft.
20875-N | AIR LIQUIDE ADVANCED MATERIALS INC | 173.3(d)(2) | To authorize the transportation in commerce of leaking or damaged cylinders containing Division 4.2 hazardous materials in a salvage cylinder.
20893-N | DAIMLER AG | 173.220(d) | To authorize the transportation in commerce of untested lithium batteries contained in a flammable liquid powered vehicle.
20895-N | Innolith Snook LLC | 173.185(b)(3)(i), 173.185(b)(3)(ii) | To authorize the transportation in commerce of lithium ion batteries and cells in alternative packagaing.

Special Permits Data—Denied
Application number | Applicant | Regulation(s) affected | Nature of the Special permits thereof
14576-M | STRUCTURAL COMPOSITES INDUSTRIES LLC | 172.101(j), 173.302a(a)(1), 173.304a(a)(1) | To modify the special permit to reduce the burst pressure from 3.4 times service pressure to 3.0 times the service pressure.
15788-M | AMTROL-ALFA, METALOMECÂNICA, S.A | 173.302a(a), 173.304a(a), 178.71, 180.205, 180.207 | To modify the special permit to authorize hydrogen to be transported in the approved cylinders.
20323-M | Cuberg, Inc | 173.185(a)(1)(i) | To modify the special permit to authorize an additional outer packaging.
20815-N | COLEP PORTUGAL, S.A | 178.33-7(a) | To authorize the manufacture, mark, sale, and use of non-DOT specification receptacles with a reduced wall thickness.

Special Permits Data—Withdrawn
Application number | Applicant | Regulation(s) affected | Nature of the Special permits thereof
8451-M | AUTOLIV ASP, INC | 172.320, 173.54(a), 173.54(j), 173.56(b), 173.57, 173.58, 173.60 | To increase the weight of the explosives.
20391-M | Hexagon Purus LLC | 173.301(f), 173.301(f), 173.302(a) | To modify the special permit to authorize a new 2 cylinder design module for storing and transporting compressed gas.
20903-N | SPACEFLIGHT, INC | 173.185(a) | To authorize the transportation in commerce of low production lithium ion batteries contained in equipment via ground, cargo vessel, and cargo air.
20905-N | POLLUTION CONTROL INC. | 173.56(b) | To authorize the one-way transportation in commerce of waste explosive substances that had previously been approved.

[FR Doc. 2019-17170 Filed 8-9-19; 8:45 am]

BILLING CODE 4909-60-P